DEPARTMENT OF COMMERCE

National Institute of Standards and Technology

Announcing a Tutorial Workshop on ISO/IEC 24727—Identification Cards—Integrated Circuit Card Programming Interfaces

AGENCY: National Institute of Standards and Technology, Commerce.

ACTION: Notice of public workshop.

SUMMARY: The National Institute of Standards and Technology (NIST) will hold a public workshop on December 1-3, 2009, at the National Transportation Safety Board (NTSB) Board Room/Conference Center. The workshop is open to the public but registration is required. The registration fee will be $90.00. The purpose of the 3-day workshop is to provide a high-level tutorial of the six part standard, ISO/IEC 24727—Identification cards—Integrated circuit card programming interfaces, a multi-part standard for interoperable identification, authentication, and signature services for credentials and applications. The workshop will also provide sessions on the use of ISO/IEC 24727 to include an overview of NIST IR 7611, Use of ISO/IEC 24727—Service Access Layer Interface for Identity (SALII): Support for Development and use of Interoperable Identity Credentials, which describes ISO/IEC 24727 from the perspective of the Federal Information Processing Standard (FIPS) 201—Personal Identity Verification (PIV) of Federal Employees and Contractors.

DATES: The meeting will be held on December 1-3, 2009.

ADDRESS: The three day workshop will be held at the National Transportation Safety Board (NTSB) Board Room/Conference Center, located at 429 L'Enfant Plaza, SW., Washington, DC 20024.

FOR FURTHER INFORMATION CONTACT: Ms. Annie Sokol, Information Technology Laboratory, National Institute of Standards and Technology, 100 Bureau Drive, Stop 8930, Gaithersburg, Maryland 20899-8930, Telephone: (301) 975-2006, E-mail: annie.sokol@nist.gov.

SUPPLEMENTARY INFORMATION:

Agenda:

Day 1: ISO/IEC 24727 concepts and technical parts.

Day 2: ISO/IEC 24727 technical parts.

Day 3: ISO/IEC 24727 technical parts, NISTIR 7611.

Abstract

The National Institute of Standards and Technology, in conjunction with national and international standards bodies, is an active participant in the development of the multi-part international standard entitled, ISO/IEC 24727—Identification cards—Integrated circuit card programming interfaces. The standard consists of six parts:

ISO/IEC 24727—Identification cards—Integrated circuit card programming interfaces—Part 1: Architecture

ISO/IEC 24727—Identification cards—Integrated circuit card programming interfaces—Part 2: Generic card interface

ISO/IEC 24727—Identification cards—Integrated circuit card programming interfaces—Part 3: Application interface

ISO/IEC 24727—Identification cards—Integrated circuit card programming interfaces—Part 4: API Administration

ISO/IEC 24727—Identification cards—Integrated circuit card programming interfaces—Part 5: Testing

ISO/IEC 24727—Identification cards—Integrated circuit card programming interfaces—Part 6: Registration authority procedures for the authentication protocols for interoperability

The National Institute of Standards and Technology (NIST) will hold a tutorial on December 1-3, 2009, at the NTSB Board Room/Conference Center. The tutorial is open to the public but requires registration. The goal of the 3-day workshop is to provide a high-level tutorial of the six part standard, ISO/IEC 24727—Identification cards—Integrated circuit card programming interfaces, a multi-part standard for interoperable identification, authentication, and signature services for credentials and applications.

This workshop is open to the public but all attendees must pre-register in advance. There is a registration fee of $90.00. Please register online at http://www.nist.gov/public_affairs/confpage/conflist.htm. The registration deadline is November 20, 2009. A forthcoming URL with agenda and materials will be linked from the registration site.

Dated: November 3, 2009.
Patrick Gallagher,
Deputy Director.

[FR Doc. E9-26832 Filed 11-5-09; 8:45 am]

BILLING CODE 3510-13-P